DEPARTMENT OF TRANSPORTATION

Federal Railroad Administration

[Docket No. FRA-2000-7257, Notice No. 25]

Railroad Safety Advisory Committee (“RSAC”); Working Group Activity Update

AGENCY: Federal Railroad Administration (FRA), Department of Transportation (DOT).

ACTION: Announcement of Railroad Safety Advisory Committee (RSAC) working group activities.

SUMMARY: FRA is updating its announcement of RSAC's working group activities to reflect the current status of working group activities.

FOR FURTHER INFORMATION CONTACT: Trish Paolella or Lydia Leeds, RSAC Coordinators, FRA, 1120 Vermont Avenue, NW., Mailstop 25, Washington, DC 20590, (202) 493-6213 or Grady Cothen, Deputy Associate Administrator for Safety Standards and Program Development, FRA, 1120 Vermont Avenue, NW., Mailstop 25, Washington, DC 20590, (202) 493-6302.

SUPPLEMENTARY INFORMATION: This notice serves to update FRA's last announcement of working group activities and status reports on December 17, 1999 (64 FR 70756). The sixteenth full Committee meeting was held December 7, 2000, at the Wyndham Hotel in the Vista Ballroom in Washington, DC.

Since its first meeting in April of 1996, the RSAC has accepted sixteen tasks. Status for each of the tasks is provided below:

Task 96-1—Revising the Freight Power Brake Regulations. This Task was formally withdrawn from the RSAC on June 24, 1997. FRA published an NPRM on September 9, 1998, reflective of what FRA had learned through the collaborative process. Two public hearings were conducted and a technical conference was held. The date for submission of written comments was extended to March 1, 1999. The final rule was published on 1/17/01 (66 FR 4104). An amendment extending the effective date of the final rule until May 31, 2001 was published on February 12, 2001, (66 FR 9905). In addition, the AAR has requested that OMB re-open the Paperwork approval on the rule. Contact: Thomas Hermann (202) 493-6036.

Task 96-2—Reviewing and recommending revisions to the Track Safety Standards (49 CFR Part 213). This task was accepted April 2, 1996, and a Working Group was established. Consensus was reached on recommended revisions and an NPRM incorporating these recommendations was published in the Federal Register on July 3, 1997, (62 FR 36138). The final rule was published in the Federal Register on June 22, 1998 (63 FR 33991). The effective date of the rule was September 21, 1998. A task force was established to address Gage Restraint Measurement System (GRMS) technology applicability to the Track Safety Standards. A GRMS amendment to the Track Safety Standards was approved by the full RSAC in a mail ballot during August. The GRMS final rule amendment was published 1/10/01 (66 FR 1894) and Roadway Maintenance Machines NPRM was published 1/10/01 (66 FR 1930). On January 31, 2001, FRA published a notice extending the effective date of the GRMS amendment to April 10, 2001 (66 FR 8372). On February 8, 2001, FRA published a notice delaying the effective date until June 9, 2001 in accordance with the Regulatory Review Plan (66 FR 9676). Contact: Al MacDowell (202) 493-6236.

Task 96-3—Reviewing and recommending revisions to the Radio Standards and Procedures (49 CFR Part 220). This Task was accepted on April 2, 1996, and a Working Group was established. Consensus was reached on recommended revisions and an NPRM incorporating these recommendations was published in the Federal Register on June 26, 1997 (62 FR 34544). The final rule was published on September 4, 1998 (63 FR 47182), and was effective on January 2, 1999. Contact: Gene Cox (202) 493-6319.

Task 96-4—Reviewing the appropriateness of the agency's current policy regarding the applicability of existing and proposed regulations to tourist, excursion, scenic, and historic railroads. This Task was accepted on April 2, 1996, and a Working Group was established. The Working Group monitored the steam locomotive regulations task. Planned future activities involve the review of other regulations for possible adaptation to the safety needs of tourist and historic railroads. Contact: Grady Cothen (202) 493-6302.

Task 96-5—Reviewing and recommending revisions to Steam Locomotive Inspection Standards (49 CFR Part 230). This Task was assigned to the Tourist and Historic Working Group on July 24, 1996. Consensus was reached and an NPRM was published on September 25, 1998 (63 FR 51404). A public hearing was held on February 4, 1999, and recommendations were developed in response to comments received. The final rule was published on November 17, 1999 (64 FR 62828). Contact: George Scerbo (202) 493-6349.

Task 96-6—Reviewing and recommending revisions to miscellaneous aspects of the regulations addressing Locomotive Engineer Certification (49 CFR Part 240). This Task was accepted on October 31, 1996, and a Working Group was established. Consensus was reached and an NPRM was published on September 22, 1998. The Working Group met to resolve issues presented in public comments. The RSAC recommended issuance of a final rule with the Working Group modifications. The final rule was published November 8, 1999 (64 FR 60966). Contact: John Conklin (202) 493-6318.

Task 96-7—Developing Roadway Maintenance Machine (On-Track Equipment) Safety Standards. This task was assigned to the existing Track Standards Working Group on October 31, 1996, and a Task Force was established. The Task Force finalized a proposed rule which was approved by the full RSAC in a mail ballot in August. The NPRM was published 1/10/01 (66 FR 1930). Contact: Al MacDowell (202) 493-6236.

Task 96-8—This Planning Task Evaluated the need for action responsive to recommendations contained in a report to Congress entitled, Locomotive Crashworthiness & Working Conditions. This Planning Task was accepted on October 31, 1996. A Planning Group was formed and reviewed the report, grouping issues into categories, and prepared drafts of the task statements for Task 97-1 and 97-2.

Task 97-1—Developing crashworthiness specifications to promote the integrity of the locomotive cab in accidents resulting from collisions. This Task was accepted on June 24, 1977. A Task Force on engineering issues was established by the Working Group on Locomotive Crashworthiness to review collision history and design options and additional research was commissioned. The Working Group reviewed results of the research and is drafting performance-based standards for freight and passenger locomotives to present to the RSAC for consideration. An NPRM is being prepared, with the Working Group meeting to review the draft. Contact: Sean Mehrvazi (202) 493-6237.

Task 97-2—Evaluating the extent to which environmental, sanitary, and other working conditions in locomotive cabs affect the crew's health and the safe operation of locomotives, proposing standards where appropriate. This Task was accepted June 24, 1997. A draft sanitation NPRM was circulated to the Working Group on Cab Working Conditions with ballot requested by 11/3/00. The NPRM on sanitation was discussed during the full RSAC meeting on September 14, 2000 and published 1/02/01 (66 FR 136). A public hearing is scheduled April 2, 2001, to discuss the Locomotive Sanitation Standards. A Task Force has assisted in identifying options for strengthening the occupational noise exposure standard, and the Cab Working Group met in October and November and reached tentative agreement on most of the significant issues related to the noise NPRM. The Cab Working Group has scheduled a meeting April 3-5 to discuss Noise Standards. The Cab Working Group has also considered issues related to cab temperature, and is expected to consider additional issues (such as vibration) in the future. Contact: Brenda Hattery (202) 493-6326.

Task 97-3—Developing event recorder data survivability standards. This Task was accepted on June 24, 1997. An event Recorder Working Group and Task Force have been established and are actively meeting. A draft proposed rule is being reviewed. Contact: Edward Pritchard (202) 493-6247.

Task 97-4 and Task 97-5—Defining Positive Train Control (PTC) functionalities, describing available technologies, evaluating costs and benefits of potential systems, and considering implementation opportunities and challenges, including demonstration and deployment.

Task 97-6—Revising various regulations to address the safety implications of processor-based signal and train control technologies, including communications-based operating systems.

These three tasks were accepted on September 30, 1997, and assigned to a single Working Group. A Data and Implementation Task Force, formed to address issues such as assessment of costs and benefits and technical readiness, completed a report on the future of PTC systems. The report was accepted as RSAC's Report to the Administrator at the September 8, 1999, meeting. The Standards Task Force, formed to develop PTC standards, is developing draft recommendations for performance-based standards for processor-based signal and train control standards. The NPRM was approved by consensus at the full RSAC meeting held on September 14, 2000. The NPRM will be published in the Federal Register. Task forces on Human Factors and the Axiomatic Safety-Critical Assessment Process (risk assessment) continue to work. A meeting of the Working Group is scheduled for March 26, 2001, in Las Vegas to discuss updates on the projects. Contact: Grady Cothen (202) 493-6302.

Task 97-7—Determining damages qualifying an event as a reportable train accident. This Task was accepted on September 30, 1997. A working group was formed to address this task and conducted their initial meeting on February 8, 1999. The working group designed a survey form to collect specific data about damages to railroad equipment. The survey started on August 1 and ended January 31, 2001. A statistical analysis, using the survey data, is currently being done to see if a method can be used to calculate property damages. The report is scheduled for completion by the last week of April, 2001. A meeting is scheduled for May 21-23, 2001 to review the report. Contact: Robert Finkelstein (202) 493-6280.

Task 00-1—Determining the need to amend regulations protecting persons who work on, under, or between rolling equipment and persons applying, removing or inspecting rear end markings devices (Blue Signal Protection). A working group has been formed and held its first meeting on October 16-18, 2000. A second meeting was held from February 27-March 1, 2001. The next meeting is scheduled for March 19-21, 2001. Contact: Doug Taylor (202) 493-6255.

Please refer to the notice published in the Federal Register on March 11, 1996 (61 FR 9740) for more information about the RSAC.

Issued in Washington, DC on March 25, 2001.
George A. Gavalla,
Associate Administrator for Safety.

[FR Doc. 01-8437 Filed 4-5-01; 8:45 am]

BILLING CODE 4910-06-M